DEPARTMENT OF THE INTERIOR

National Park Service

National Register of Historic Places; Notification of Pending Nominations

Nominations for the following properties being considered for listing in the National Register were received by the National Park Service before November 27, 2004.

Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington, DC 20005; or by fax, (202) 371-6447. Written or faxed comments should be submitted by January 5, 2005.

Carol D. Shull,
Keeper of the National Register of Historic Places.

COLORADO

Gunnison County

Vienna Bakery—Johnson Restaurant, 122-124 N. Main St., Gunnison, 04001425

KANSAS

Cowley County

Pettit Cleaners Building, 114 E. 8th Ave., Winfield, 04001427

Dickinson County

Staatz House, 1824 Wolf Rd., Junction City, 04001426

Rawlins County

Minor Sod House, SW¼, SW¼, NW¼, SW¼, S.20, T.5S, R. 36W, McDonald, 04001428

MASSACHUSETTS

Middlesex County

Boutwell, Gov. George S., House, 172 Main St., Groton, 04001431

Fresh Pond Parkway—Metropolitan Park System of Greater Boston (Metropolitan Park System of Greater Boston MPS), Fresh Pond Parkway, Cambridge, 04001429

Westlawn Cemetery, Concord Rd., Westford, 04001433

Suffolk County

Truman Parkway—Metropolitan Park System of Greater Boston (Metropolitan Park System of Greater Boston MPS), Truman Parkway, Boston, 04001430

VFW Parkway, Metropolitan Park System of Greater Boston (Metropolitan Park System of Greater Boston MPS), VFW Parkway, bet. Spring and Centre Sts., Boston, 04001432

MONTANA

Fallon County

Baker Hotel, 4 South Main St., Baker, 04001435

Richland County

Burgess Garage, Corner of 3rd and Main, Lambert, 04001434

NEW JERSEY

Camden County

Central Trust Building (Banks, Insurance, and Legal Buildings in Camden, New Jersey, 1873-1938 MPS), 401 Federal St., Camden, 04001460

South Jersey Gas, Electric and Traction Company Office Building, 418 Federal St., Camden, 04001436

NEW YORK

Albany County

St. Andrew's Episcopal Church, 10 N. Main Ave., Albany, 04001447

Cayuga County

Durkee, Almeron, House, 13 Cayuga St., Union Springs, 04001455

Howland, Charles— William H. Chase House, 188 Cayuga St., Union Springs, 04001456

Clinton County

Rouses Point Railroad Station, 68 Pratt St., Rouses Point, 04001454

Essex County

First Congregational Church and Cemetery, NY 9 at Elizabeth-Lewis Rd., Lewis, 04001457

Hamilton County

St. William's Catholic Church, Long Point on Raquette Lake, Long Lake, 04001446

Livingston County

First Presbyterian Church of Avon, 5605 Avon-Lima Rd., Avon, 04001444

Monroe County

Saint Mark's and Saint John's Episcopal Church, 1245 Culver Rd., Rochester, 04001438

Union Presbyterian Church, Church St., Scottsville, 04001439

Montgomery County

Trinity Lutheran Church and Cemetery, 5430 NY 10, Stane Arabia, 04001440

New York County

LILAC, United States Lighthouse Tender, Pier 40, New York, 04001441

Niagara County

Jefferson Apartment Building, 250 Rainbow Blvd., Niagara Falls, 04001452

Ontario County

Dundee Methodist Church, 33 Water St., Dundee, 04001445

Orange County

Taylor—Corwin House, 112 Maple Ave., Pine Bush, 04001442

Thompson, Andrew, Farmstead, RD Rte 302, Pine Bush, 04001443

Oswego County

Carley's Mills Schoolhouse, Oswego Cty Rte 84, Hastings, 04001449

Suffolk County

Strong, Thomas, House, 100 Wainscott Hollow Rd., Wainscott, 04001451

Town Doctors' House Site, 310 Ackerly Pond Ln., Southold, 04001448

Sullivan County

Ferndale School, Uppper Ferndale Rd. and Ferndale Loomis Rd., Ferndale, 04001437

Tompkins County

District No. 2 School, Caroline and Dryden, 2670 Slaterville Rd., Slaterville Springs, 04001453

Ulster County

Chapel Hill Bible Church, 49 Bingham Rd., Marlboro, 04001450

PENNSYLVANIA

Tioga County

Wellsboro Historic District, Roughly bounded by Nichols, Tioga, Charleston, Jackson, East, Bacon, Morris, Sturrock, Meade, Grant, Walnut, Academy, etc., Wellsboro, 04001458

TENNESSEE

Anderson County

Fraterville Miners' Circle, Leach Cemetery Ln., Lake City, 04001459

A request for removal has been made for the following resource:

MINNESOTA

Washington County

Territorial—State Prison (Washington County MRA), Main and Laurel Sts., Stillwater, 82003079

[FR Doc. 04-27884 Filed 12-20-04; 8:45 am]

BILLING CODE 4312-51-P